DEPARTMENT OF HOUSING AND URBAN DEVELOPMENT

[Docket No. FR-5681-N-40]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Air Force: Mr. Robert Moore, Air Force Real Property Agency, 2261 Hughes Avenue, Suite 156, Lackland AFB, TX, 78236-9852, (210) 395-9512; COE: Mr. Scott Whiteford, Army Corps of Engineers, Real Estate, CEMP-CR, 441 G Street NW., Washington, DC 20314; (202) 761-5542; GSA: Mr. Flavio Peres, General Services Administration, Office of Real Property Utilization and Disposal, 1800 F Street NW., Room 7040 Washington, DC 20405, (202) 501-0084; Navy: Mr. Steve Matteo, Department of the Navy, Asset Management Division, Naval Facilities Engineering Command, Washington Navy Yard, 1330 Patterson Ave. SW., Suite 1000, Washington, DC 20374; (202) 685-9426; (These are not toll-free numbers).

Dated: September 26, 2013.
Mark Johnston,
Deputy Assistant Secretary for Special Needs.

TITLE V, FEDERAL SURPLUS PROPERTY PROGRAM FEDERAL REGISTER REPORT FOR 10/04/2013

Suitable/Available Properties

Building

Alaska

9 Buildings

JBER-E

Anchorage AK 99506

Landholding Agency: Air Force

Property Number: 18201240030

Status: Unutilized

Directions: 5374, 59122, 59348, 76520, 16519, 16521, 9570, 7179, 8197

Comments: off-site removal only; sf. varies; moderate conditions; restricted area; contact AF for more info. on a specific property & accessibility/removal requirements

4 Buildings

JBER

JBER AK 99506

Landholding Agency: Air Force

Property Number: 18201310014

Status: Unutilized

Directions: 10449, 27369, 33855, 35750

Comments: off-site removal only; sf. varies; moderate conditions; restricted area; contact AF for more info. on a specific property & accessibility/removal reqs.

Building 6260

Arctic Warrior Dr.

JBER AK 99506

Landholding Agency: Air Force

Property Number: 18201310015

Status: Unutilized

Comments: off-site removal only; 75,720 sf.; Admin./Storage; moderate conditions; restricted area; contact AF for info. on accessibility/removal reqs.

3 Buildings

Gibson Ave.

JBER AK 99506

Landholding Agency: Air Force

Property Number: 18201310016

Status: Unutilized

Directions: 6252, 6257, 7263

Comments: off-site removal only; sf. varies; storage; moderate conditions; restricted area; contact AF for more info. on a specific property & accessibility/removal reqs.

2 Buildings

Industrial Ave.

Eielson AFB AK 99702

Landholding Agency: Air Force

Property Number: 18201310030

Status: Unutilized

Directions:

6213, 6214

Comments: off-site removal only; sf. varies; major repairs needed; contact Air Force for more info. on a specific property & accessibility/removal reqs.

8 Buildings

Wainwright Short Range Radar Site

Wainwright AK 99782

Landholding Agency: Air Force

Property Number: 18201310036

Status: Unutilized

Directions: 1, 2, 3, 12, 13, 100, 101, 105

Comments: sf. varies; very poor conditions; remote area; contact AF for info. on a specific property listed above

Building 400

Main Street

King Salmon Airport AK

Landholding Agency: Air Force

Property Number: 18201320079

Status: Unutilized

Comments: 1,408 sf.; storage; 29 yrs. old; moderate conditions; periodic flooding (next to Naknek River)

Building 119

Mountain Top Rd.

Indian Mountain AK

Landholding Agency: Air Force

Property Number: 18201320080

Status: Unutilized

Comments: 256 sf.; waste treatment building; 36+ months vacant; deteriorating; asbestos & lead based paint

Building 125

Mountain Top Rd.

Indian Mountain AK

Landholding Agency: Air Force

Property Number: 18201320081

Status: Unutilized

Comments: 680 sf.; solid waste disposal facility; 36+ months vacant; deteriorated; asbestos & lead based paint

Building 715

Fuel Lane

King Salmon Airport AK

Landholding Agency: Air Force

Property Number: 18201320082

Status: Unutilized

Comments: 256 sf.; fuel building; 24+ months vacant; deteriorated; contamination

Building 720

Fuel Lane

King Salmon Airport AK

Landholding Agency: Air Force

Property Number: 18201320083

Status: Unutilized

Comments: 285 sf.; fuel building; 24+ months vacant; deteriorated; periodic flooding (next to Naknek River)

14 Buildings

Seward Recreation Camp

Seward AK 99664

Landholding Agency: Air Force

Property Number: 18201330010

Status: Excess

Directions: 100, 101, 104, 300, 301, 303, 302, 304, 305, 306, 307, 308, 309, 310

Comments: Off-site removal only; sf. varies; 9+ months vacant; moderated conditions; contact Air Force for more info. on a specific property and removal requirements.

Building 6397

null

Eielson AK 99702

Landholding Agency: Air Force

Property Number: 18201330038

Status: Unutilized

Comments: Off-site removal only; 200 sf.; no future agency need; poor conditions; contamination; secured area; contact Air Force for more info.

California

Building 1028

19338 North St.

Beale CA 95903

Landholding Agency: Air Force

Property Number: 18201240009

Status: Unutilized

Comments: 178; poor conditions; asbestos & lead; restricted area; contact AF for info. on accessibility requirements

Building 2153

6900 Warren Shingle

Beale AFB CA 95903

Landholding Agency: Air Force

Property Number: 18201240010

Status: Unutilized

Comments: 4,000; very poor conditions; asbestos & lead possible; restricted area; contact AF for info. on accessibility requirements

Former Mather AFB

Former Mather AFB

Rancho Cordova CA 95655

Landholding Agency: Air Force

Property Number: 18201310064

Status: Excess

Directions: includes five bldgs. and land; bldgs. #: 1703, 1705, 1706, 1707, 1708

Comments: previously reported in 1992; total sf.: 191,446; sits on 15 acres; used for: residential; good condition

Colorado

Building 300

Buckley AFB

Aurora CO 80011

Landholding Agency: Air Force

Property Number: 18201230016

Status: Unutilized

Comments: off-site removal only; 1414 sf.; jet fuel labs; roof has collapse & needs to be replaced; restricted area; contact AF for details on accessibility/removal

Building 66072

Military Housing

Colorado Springs CO

Landholding Agency: Air Force

Property Number: 18201310028

Status: Unutilized

Comments: 5,017 sf.; vacant; roof repairs needed

Building 304

Cheyenne Mountain AFS

Colorado Springs CO 80914

Landholding Agency: Air Force

Property Number: 18201320040

Status: Underutilized

Comments: off-site removal only; no future AF need; 960 sf; mailroom; good conditions; secured area, contact AF for more info.

6 Buildings

GJKZ

Fairchild AFB CO 99011

Landholding Agency: Air Force

Property Number: 18201320042

Status: Underutilized

Directions: 1478, 1479, 1480, 1482, 1483, 1484

Comments: off-site removal only; no future AF need; sf. varies; w/inactive military installation; contact AF for removal/accessibility reqs.

Connecticut

Two Buildings

Naval Submarine Base New London

Groton CT 06340

Landholding Agency: Navy

Property Number: 77201330035

Status: Excess

Directions: 1001 & 1004 (including bldgs. & land)

Comments: 28,777 total sq. ft.; chapel/community ctr.; fair conditions; roof needs repairs; contact Navy for more info.

Florida

Building 5002

6801 Hwy 98

Tyndall AFB FL 32403

Landholding Agency: Air Force

Property Number: 18201310010

Status: Unutilized

Comments: 151 sf.; water pump station; 6 months vacant; major repairs; restricted area; contact AF for info. on accessibility reqs.

Georgia

Building 931

1501 First St.

Dobbins Air Reserve GA 30069

Landholding Agency: Air Force

Property Number: 18201330008

Status: Unutilized

Comments: Off-site removal only; 4,347 sf.; office space; 59 yrs. old; poor conditions; need repairs; contamination; secured area; contact Air Force for more info.

Facility 1006

1006 Munitions Rd.

Dobbins ARB GA 30069

Landholding Agency: Air Force

Property Number: 18201330015

Status: Unutilized

Comments: Off-site removal only; 2,097 sf.; 50 yrs. old; 2+ month vacant; storage; poor conditions; need repairs; asbestos & lead; secured area; contact Air Force for more info.

10 Buildings

Middle Georgia Regional Airport

Macon GA 31297

Landholding Agency: Air Force

Property Number: 18201330034

Status: Unutilized

Directions: 16, 1004, 15, 11,9,7,6,3,2,1

Comments: sf. varies; good to fair conditions; secured area; contact Air Force for a specific property and accessibility requirements.

Idaho

38 Buildings

Aspen & Lodge Pole

Mountain Home ID 83648

Landholding Agency: Air Force

Property Number: 18201230034

Status: Underutilized

Directions: 5001-5013, 5015, 5019-5023, 5025, 5027, 5029, 5031-5033, 5035-5041, 5043, 5101, 5103, 5105, 5107, 5109

Comments: off-site removal only; sf. varies; military housing; minor repairs/renovations needed; asbestos & lead present; restricted area; contact AF for info. on accessibility/removal reqs.

38 Buildings

Lodge Pole & Cottonwood

Mountain Home ID 83648

Landholding Agency: Air Force

Property Number: 18201230035

Status: Underutilized

Directions: 5110-5121, 5123, 5125, 5127-5132, 5134, 5137, 5139, 5141, 5144-5146, 5150, 5152-5161

Comments: off-site removal only; sf. varies; military housing; minor repairs/renovations needed; asbestos & lead present; restricted area; contact AF for info. on accessibility/removal reqs.

37 Buildings

Cottonwood & Sage

Mountain Home ID 83648

Landholding Agency: Air Force

Property Number: 18201230036

Status: Underutilized

Directions: 5162-5164, 5166, 5168, 5170, 5201-5208, 5210, 5212, 5214-5219, 5221, 5223, 5225-5229, 5231, 5233, 5235-5240

Comments: off-site removal only; sf. varies; military housing; minor repairs/renovations needed; asbestos & lead present; restricted area; contact AF for info. on accessibility/removal reqs.

38 Buildings

Sage, Beech, & Hickory

Mountain Home ID 83648

Landholding Agency: Air Force

Property Number: 18201230037

Status: Underutilized

Directions: 5241, 5243, 5245-5247, 5249, 5251, 5253-5255, 5257, 5259-5261, 5263, 5265, 5268, 5302-5303, 5305-5313, 5315, 5317, 5319-5323, 5323, 5327

Comments: off-site removal only; sf. varies; military housing; minor repairs/renovations needed; asbestos & lead present; restricted area; contact AF for info. on accessibility/removal reqs.

38 Buildings

Hickory & Pinon

Mountain Home ID 83648

Landholding Agency: Air Force

Property Number: 18201230038

Status: Underutilized

Directions: 5329-5333, 5335, 5337, 5339, 5341-5349, 5351, 5353, 5355-5359, 5361, 5363-5367, 5370-5377

Comments: off-site removal only; sf. varies; military housing; minor repairs/renovations needed; asbestos & lead present; restricted area; contact AF for info. on accessibility/removal reqs.

26 Buildings

Mountain Home AFB

Mountain Home ID 83648

Landholding Agency: Air Force

Property Number: 18201230041

Status: Underutilized

Directions: 45000, 45004, 45007, 45008, 45011, 45012, 45015, 45019, 45022, 45023, 45027, 45031, 45035, 45036, 45039, 45040, 45043, 45103, 45107, 45111, 45112, 45115, 45116, 45119, 45120, 45123

Comments: off-site removal only; 780 sf. for ea. parking; minor repairs/renovations needed; restricted area; contact AF for info. on accessibility/removals reqs.

74 Buildings

Mountain Home AFB

Mountain Home ID 83648

Landholding Agency: Air Force

Property Number: 18201230042

Status: Underutilized

Directions: 45127, 45130, 45131, 45134, 45135, 45139, 45143, 45146, 45147, 45152, 45156, 45159, 45160, 45163, 45164, 46168, 45172, 45203, 45204, 45207, 45208, 45212, 45216, 45217, 45220, 45221, 45225, 45228, 45229, 45233, 45237, 45238, 45241, 45242, 45245, 45249, 45253, 45254, 45257, 45261, 45264, 45265, 45268, 45272, 45272, 45305, 45308, 45309, 45312, 45313, 45317, 45321, 45322, 45325, 45329, 45332, 45333, 45337, 45341, 45344, 45345, 45348, 45349, 45353, 45357, 45358, 45361, 45365, 45366, 45367, 45372, 45373, 45376, 45377

Comments: off-site removal only; 780 sf. for ea. parking; minor repairs/renovations needed; restricted area; contact AF for info. on accessibility/removals reqs.

Louisiana

Building 4143

Barksdale AFB

Barksdale LA 71110

Landholding Agency: Air Force

Property Number: 18201320007

Status: Unutilized

Comments: off-site removal only, 8,719 sf., auto hobby shop; 1 month vacant secured area, contact AF for more info.

Building 117

Naval Air Station Joint Reserve Base

New Orleans LA 70143

Landholding Agency: Air Force

Property Number: 18201330046

Status: Excess

Comments: 3,975 sf.; storage; deteriorated; secured area; background check/pass required; contact Air Force for more info. re.; accessibility reqs.

Building 019

Naval Air Station joint Reserve Base

New Orleans LA 70143

Landholding Agency: Air Force

Property Number: 18201330050

Status: Excess

Comments: 3,038 sq. ft.; storage; deteriorated; secured area; official ID required; contact Air Force for more information

Massachusetts

3 Buildings

Hudson Rd.

Sudbury MA

Landholding Agency: Air Force

Property Number: 18201310026

Status: Excess

Directions: 01, 04, 05

Comments: sf. varies; lab; fair conditions; restricted area; contact AF for info. on accessibility reqs.

7 Buildings

Westover ARB

Chicopee MA 01022

Landholding Agency: Air Force

Property Number: 18201320062

Status: Underutilized

Directions: 7701, 7704, 7706, 7707, 2426, 2765, 7700

Comments: Off-site removal only; no future AF need; sf. varies; adequate to very poor conditions; contamination; restricted area; escort required; contact AF for more info.

Michigan

3 Buildings

Selfridge ANGB

Selfridge MI 48045

Landholding Agency: Air Force

Property Number: 18201220020

Status: Unutilized

Directions: 326,780,710

Comments: off-site removal only; sf varies; office/school/barracks; fair conditions; need repairs

Minnesota

S.O. South Annex

200 Ash Ave. NW

Cassa Lake MN 56633

Landholding Agency: Agriculture

Property Number: 15201330035

Status: Unutilized

Comments: Off-site removal; no future agency need; 1,947 sq. ft.; office; poor foundation; minor roof damage; contact Agriculture for more info.

S.O. South Annex

200 Ash Ave. NW

Cass Lake MN 56633

Landholding Agency: Agriculture

Property Number: 15201330036

Status: Unutilized

Comments: Off-site removal; no future agency need; 1,947 sq. ft.; office; poor foundation; minor roof damage; contact Agriculture for more info.

Mississippi

Building 112

CRTC Gulfport

Gulfport MS 39507

Landholding Agency: Air Force

Property Number: 18201330041

Status: Excess

Comments: 90 sf.; ATM bldg.; good conditions; contact Air Force for more info.

New Jersey

Building 5971

West End Plaza

JBMDL NJ 08640

Landholding Agency: Air Force

Property Number: 18201310025

Status: Unutilized

Comments: off-site removal only; 1,842 sf.; storage; poor conditions; restricted area; contact AF for info. on accessibility reqs.

1932 Disaster Prep

1932 Glenn Road

JBMDL NJ 08641

Landholding Agency: Air Force

Property Number: 18201320015

Status: Underutilized

Comments: off-site removal only; no future AF need; 5,852 sf; storage; poor secured area, contact AF for more info.

1911 SP Operations

1911 East Fourth Street

JBMDL NJ 08641

Landholding Agency: Air Force

Property Number: 18201320016

Status: Underutilized

Comments: off-site removal only; 6,432 sf., AF has no future need, office/admin., poor conditions; secured area; contact AF for more info.

9719 Latrine

Range 34, 9720 Range Road

JBMDL NJ 08640

Landholding Agency: Air Force

Property Number: 18201320017

Status: Underutilized

Comments: off-site removal only; AF has no future need; 285 sf., secured area; contact AF for more info.

9721 Compressor Plant #1

Range 34, 9720 Range Road

JBMDL NJ 08640

Landholding Agency: Air Force

Property Number: 18201320018

Status: Underutilized

Comments: off-site removal only; AF has no future need; fair conditions; secured area; 63 sf., contact AF for more info.

9726 Compressor Plant #2

Range 34, 9720 Range Road

JBMDL NJ 08640

Landholding Agency: Air Force

Property Number: 18201320019

Status: Underutilized

Comments: off-site removal only; 112 sf., AF has no future need; fair conditions, secured area; contact AF for more info.

6045 MWR Support

6045 Doughboy Loop

JBMDL NJ 08640

Landholding Agency: Air Force

Property Number: 18201320020

Status: Excess

Comments: off-site removal only; 4,087 sf.; poor conditions, secured area; contact AF for more info.

1902 Comm Facility

1902 Ammo Road

JBMDL NJ 08641

Landholding Agency: Air Force

Property Number: 18201320021

Status: Underutilized

Comments: off-site removal only; 25,966 sf.; AF has no future need; storage; poor conditions; secured area; contact AF for more into.

New York

Building 11

Schenectady Airport

Scotia NY 12302

Landholding Agency: Air Force

Property Number: 18201330049

Status: Excess

Directions: 1 Air National Guard Road

Comments: 10,267 sq. ft.; nose duck; poor conditions; secured area; military escort required each time to access property; contact Air Force for more info.

North Carolina

SAC COO-16888

Jeffries Plant SC Serv.

Authority Cooper River

Wake NC 27589

Landholding Agency: COE

Property Number: 31201330011

Status: Unutilized

Comments: Off-site removal only; no future agency need; 2,257 sq. st.; vacant; 28 yrs.-old; poor structural condition.

SAS FAL-15916

Hartwell Lake & Dam

Wake NC 27587

Landholding Agency: COE

Property Number: 31201330012

Status: Unutilized

Comments: Off-site removal only; no future agency need; 36 sq. ft.; vacant; 34+ yrs.-old; poor structural.

North Dakota

2 Buildings

JFSD Grand Forks AFB

Grand Forks ND 58205

Landholding Agency: Air Force

Property Number: 18201330017

Status: Unutilized

Directions: 822(162 sf.), 821(264 sf.)

Comments: Deteriorated conditions; contamination; secured area; escort required each time to access; contact Air Force for more info.

Oklahoma

Building 267

7576 Sentry Blvd.

Tinker AFB OK 73145

Landholding Agency: Air Force

Property Number: 18201310039

Status: Unutilized

Comments: off-site removal only; 6,892 sf.; vehicle parking shed; fair conditions; restricted area; contact AF for info. on accessibility/removal requirements

Building 1100

7492 Patrol Road

Tinker AFB OK 73145

Landholding Agency: Air Force

Property Number: 18201320024

Status: Underutilized

Comments: off-site removal only; no future AF need; 5,471 sf.; maint. facility; fair/poor condition; controlled AF installation, contact AF for more info.

Building 944

4600 Air Depot Blvd.

Tinker AFB OK 73145

Landholding Agency: Air Force

Property Number: 18201320026

Status: Underutilized

Comments: off-site removal only; no future AF need; 2,400 sf.; warehouse; fair/poor condition; controlled AF installation; contact AF for info. re: accessibility/removal

Building 1111

Tinker AFB

Tinker OK 73145

Landholding Agency: Air Force

Property Number: 18201330028

Status: Unutilized

Comments: Off-site removal only; no future agency need; 231 sf.; utility bldg.; generally good conditions; secured area; contact Air Force for more info.

2 Buildings

Tinker AFB

Tinker OK 73145

Landholding Agency: Air Force

Property Number: 18201330029

Status: Unutilized

Directions: 1072,901

Comments: Off-site removal only; no agency need; poor conditions; secured area; contact Air Force for info. on a specific property & removal requirements.

Puerto Rico

Muniz IAP

200 JoseA (Tony) Santana Ave.

Carolina PR 09879

Landholding Agency: Air Force

Property Number: 18201320069

Status: Unutilized

Comments: 755 sf.; potable water storage & pump house; poor conditions; secured area; escort required to access property; contact AF for more info.

South Carolina

Building 1400

66/68 Von Steuben

Goose Creek SC 29445

Landholding Agency: Air Force

Property Number: 18201310006

Status: Underutilized

Comments: 3,426 sf.; storage; fair conditions

Land at Henley Park Area

JBC

N. Charleston SC 29404

Landholding Agency: Air Force

Property Number: 18201310008

Status: Underutilized

Comments: 57 acres; restricted military installation; contact AF on info. on accessibility reqs.

2 Building

Shaw AFB

Sumter SC 29152

Landholding Agency: Air Force

Property Number: 18201320054

Status: Unutilized

Directions: 1036, 1826

Comments: off-site removal only; no AF future need; sf. varies; poor conditions; secured area, contact AF for more info.

4 Buildings

Shaw AFB

Sumter SC 29152

Landholding Agency: Air Force

Property Number: 18201320055

Status: Underutilized

Directions: 1027,1028,2451,1034

Comments: Off-site removal only; no AF future need; sf. varies; poor conditions; secured area; contact AF for more info.

Building 1036

311 Avocet Street, Street, Shaw AFB

Sumter SC 29152

Landholding Agency: Air Force

Property Number: 18201320086

Status: Unutilized

Comments: off-site removal only; no future agency need; 1,694 sf.; open storage for auto hobby shop; repairs needed; secured area; contact AF for more info.

Building 1826

100 Shaw Dr., Shaw AFB

Sumter SC 29152

Landholding Agency: Air Force

Property Number: 18201320087

Status: Unutilized

Comments: off-site removal only; no future agency need; 984sf. wash rack; repairs needed; secured area; contact AF for more info.

Texas

Plowman Creek Park

Whitney Lake Project

Kopperl TX 76634

Landholding Agency: COE

Property Number: 31201330007

Status: Unutilized

Directions: WH-27966

Comments: Off-site removal only; no future agency need; 50+ yrs.-old; 30 sq. ft.; water well; secured area, contact COE for more info.

Navarro Mills Lake

1225 FM 669

Purdon TX 76679

Landholding Agency: COE

Property Number: 31201330008

Status: Underutilized

Comments: Off-site removal only; no future agency need; 624 sq. ft.; 30+ yrs. old; restroom; secured area; contact COE for more info.

Steele Creek Park

Whitney Lake Project

Morgan TX 76671

Landholding Agency: COE

Property Number: 31201330009

Status: Unutilized

Directions: WH-27961

Comments: Off-site removal only; 30 sq. ft.; 50+ yrs.-old; water well; secured area; contact COE for more info.

Steele Creek Park

Whitney Lake Project

Morgan TX 76671

Landholding Agency: COE

Property Number: 31201330010

Status: Unutilized

Directions: WH-27960

Comments: Off-site removal only; no future agency need; 30 sq. ft.; water well; contact COE for more info.

WH-27960

Steele Creek Park at Whitney Lake

Morgan TX 76671

Landholding Agency: COE

Property Number: 31201330013

Status: Unutilized

Comments: Off-site removal only; 30 sq. ft.; water well; 50+ yrs. old; repairs needed secured area; contact COE for more info.

Virginia

Joint Base Langley Eustis

1134 Wilson Ave.

Newport News VA

Landholding Agency: Air Force

Property Number: 18201240006

Status: Unutilized

Comments: 887 sf.; storage; poor conditions; restricted area; visitor's pass required; contact AF for more info.

Joint Base Langley Eustis

3508 Mulberry Island Rd.

Newport News VA

Landholding Agency: Air Force

Property Number: 18201240007

Status: Unutilized

Comments: 4,026; poor conditions; restricted area; visitor's pass required; contact AF for more info.

Land

Alaska

Parcel of Land

Joint Base Elmendorf Richardson

JBER AK 99506

Landholding Agency: Air Force

Property Number: 18201330011

Status: Underutilized

Comments: 20x20 (400sf.); secured area; must obtain a visitor's pass & have a gov't sponsor escort to access installation; contact Air Force for more info.

Portion of Land

Joint Base Elmendorf Richardson

JBER AK 99505

Landholding Agency: Air Force

Property Number: 18201330012

Status: Underutilized

Comments: 1600 sf.; secured area; visitor's pass and gov't sponsor required; contact Air Force for more info.

Portion of Land

Joint Base Elmendorf Richardson

JBER AK 99505

Landholding Agency: Air Force

Property Number: 18201330013

Status: Underutilized

Comments: .29 acres; secured area; visitor's pass & gov't sponsor required; contact Air Force for more info.

Florida

WBPA (9901/72441/99300)

9901 E. Pine Ave.

St. George Island FL 32328

Landholding Agency: Air Force

Property Number: 18201310041

Status: Excess

Comments: .34 acres; tower & fence needs to be removed; remote access; contact AF for more info.

Suitable/Unavailable Properties

Building

Alaska

Commercial Lot w/2 Story

Structure

412 Washington Ave.

Seward AK 99664

Landholding Agency: GSA

Property Number: 54201320010

Status: Surplus

GSA Number: 9-I-AK-0803AB

Directions: GSA is the disposal agency; NPD/DOII is the landholding agency

Comments: 3,538 sf.; restaurant

Multi-Family Lot

212 Fifth Ave.

Seward AK 99664

Landholding Agency: GSA

Property Number: 54201320014

Status: Surplus

GSA Number: 9-I-AK-0805AB

Directions: Disposal agency: GSA; Landholding agency: NPS/DOII

Comments: 1,070 sf.; residential; fair conditions; mold, asbestos, & lead

New York

Building

NOSC Albany New York

Albany NY 12203

Landholding Agency: Navy

Property Number: 77201330031

Status: Unutilized

Comments: 34,250 sq. ft.; reserve training bldg.; age 1956; univalve due to existing federal need.

Building 2

NOSC Albany New York

Albany NY 12203

Landholding Agency: Navy

Property Number: 77201330032

Status: Excess

Comments: 1,495 sq. ft.; auto vehicle maintenance; age 1956; unavailable due to existing federal need

Building

NOSC Albany New York

Albany NY 12203

Landholding Agency: Navy

Property Number: 77201330033

Status: Excess

Comments: 3,702 sq. ft.; reserve training bldg.; unavailable due to existing Federal need.

Oklahoma

24 Buildings

Tinker AFB

Tinker AFB OK 73145

Landholding Agency: Air Force

Property Number: 18201310040

Status: Excess

Directions: 9005, 217, 222, 234, 803, 902, 903, 904, 905, 990, 994, 1001, 1096, 1110, 2128, 3333, 3805, 4005, 4008, 7005, 7007, 7037, 7038, 7041

Comments: sf. varies; fair to moderate conditions; currently bldgs. are unavailable because they are being utilized by the AF

Building 4008

6285 Hilltop Rd.

Tinker AFB OK 73145

Landholding Agency: Air Force

Property Number: 18201320085

Status: Excess

Comments: 7,767 sf.; depot operations facility; fair conditions; not available due to existing AF need

Unsuitable Properties

Building

Alabama

Building 27, Heating Facility

323 Kirkpatrick Avenue

Maxwell AFB AL 36112

Landholding Agency: Air Force

Property Number: 18201320013

Status: Unutilized

Comments: Public access denied & no alternative method to gain access without compromising Nat'l security w/out compromising Nat'l sec.

Reasons: Secured Area

Bldg. 31

450 Cedar St.

Maxwell AFB AL 36112

Landholding Agency: Air Force

Property Number: 18201230026

Status: Unutilized

Comments: located w/in restricted area; public access denied & no alternative method to gain access w/out compromising Nat'l security

Reasons: Secured Area

Building 853

25 South LeMay

Maxwell AFB AL 36112

Landholding Agency: Air Force

Property Number: 18201240002

Status: Underutilized

Comments: located on active military installation; public access denied & no alternative method to gain access w/out compromising Nat'l security

Reasons: Secured Area

6 Buildings

Maxwell AFB

Maxwell AL

Landholding Agency: Air Force

Property Number: 18201240021

Status: Underutilized

Directions: 302, 307, 1411,695,699,322

Comments: public access denied & no alternative method to gain access w/out compromising Nat'l security

Reasons: Secured Area

2 Buildings

Maxwell AFB

Maxwell AFB AL 36112

Landholding Agency: Air Force

Property Number: 18201310034

Status: Underutilized

Directions: 1450, 1451

Comments: secured military installation; public access denied & no alternative method to gain access w/out compromising Nat'l security

Reasons: Secured Area

3 Buildings

Visiting Officer Qtrs.

Gunter Annex AL 36114

Landholding Agency: Air Force

Property Number: 18201310035

Status: Underutilized

Directions: 1014, 1015, 1016

Comments: secured military installation; public access denied & no alternative method to gain access w/out compromising Nat'l security

Reasons: Secured Area

Building 926

210 Kirkpatrick Ave.

Maxwell AFB AL 36112

Landholding Agency: Air Force

Property Number: 18201310043

Status: Underutilized

Comments: secured military installation; public access denied & no alternative w/out compromising Nat'l security

Reasons: Secured Area

Buildings 1450 & 1451

320 Chennault Circle

Maxwell AFB AL 36112

Landholding Agency: Air Force

Property Number: 18201320008

Status: Underutilized

Comments: Public access denied & no alternative method to gain access without compromising Nat'l security

Reasons: Secured Area

Building 1411, Visiting Airman

635 McDonnell Street

Maxwell AFB AL 36114

Landholding Agency: Air Force

Property Number: 18201320009

Status: Underutilized

Comments: Public access denied & no alter. w/out compromising Nat'l sec.

Reasons: Secured Area

3 Buildings

Maxwell AFB, Gunter Annex

Maxwell AFB AL 36114

Landholding Agency: Air Force

Property Number: 18201320010

Status: Underutilized

Directions: 1014, 1015, 1016

Comments: Public access denied & no alter. w/out compromising Nat'l sec.

Reasons: Secured Area

Building 26, Theater

325 Kirkpatrick Avenue

Maxwell AFB AL 36112

Landholding Agency: Air Force

Property Number: 18201320011

Status: Unutilized

Comments: Public access denied & no alter. w/out compromising Nat'l sec.

Reasons: Secured Area

Building 122, Military Family

321 Hickory Street

Maxwell AFB AL 36112

Landholding Agency: Air Force

Property Number: 18201320012

Status: Underutilized

Comments: Public access denied & no alter. w/out compromising Nat'l sec.

Reasons: Secured Area

4 Facilities

20 Kelly Street

Maxwell AFB AL 36112

Landholding Agency: Air Force

Property Number: 18201320014

Status: Excess

Directions: 1073, 1074, 1075, 1076

Comments: Public access denied & no alter. w/out compromising Nat'l sec.

Reasons: Secured Area

Alaska

3 Buildings

Eielson AFB

Eielson AK

Landholding Agency: Air Force

Property Number: 18201310017

Status: Unutilized

Directions: 6161, 6120, 6154

Comments: w/in secured area; public access denied & no alternative method to gain access w/out compromising Nat'l security

Reasons: Secured Area

6 Buildings

Eielson AFB

Eielson AK 99702

Landholding Agency: Air Force

Property Number: 18201310019

Status: Unutilized

Directions: 2208, 3125, 6151, 6156, 6158, 6159

Comments: w/in secured area; public access denied & no alternative method to gain access w/out compromising Nat'l security

Reasons: Secured Area

5 Buildings

Eareckson Air Station

Eareckson AS AK 99546

Landholding Agency: Air Force

Property Number: 18201310037

Status: Unutilized

Directions: 0719, 00400, 03055, 0071, 00702

Comments: restricted access; public access denied & no alternative method to gain access w/out compromising Nat'l security

Reasons: Secured Area

Building 3 & 21

Flaxman Island

Flaxmand Island AK

Landholding Agency: Air Force

Property Number: 18201320030

Status: Excess

Comments: Public access denied & no alter. w/out compromising Nat'l sec.

Reasons: Secured Area

10 Buildings

Flaxman Island

Flaxman Island AK

Landholding Agency: Air Force

Property Number: 18201320031

Status: Excess

Directions: 22, 23, 24, 41, 44, 4, 5, 100, 101, 105

Comments: Public access denied & no alter. w/out compromising Nat'l sec.

Reasons: Secured Area

Building 1

Flaxman Island

Flaxman Island AK 99506

Landholding Agency: Air Force

Property Number: 18201320068

Status: Excess

Comments: Public access denied & no alter. w/out compromising Nat'l sec.

Reasons: Secured Area

Building 4

Flaxman Island

Flaxman Island AK

Landholding Agency: Air Force

Property Number: 18201320078

Status: Excess

Comments: public access denied & no alternative method to gain access w/out compromising Nat'l security

Reasons: Secured Area

Arizona

7 Buildings

Davis Monthan AFB

Tucson AZ 85707

Landholding Agency: Air Force

Property Number: 18201310042

Status: Underutilized

Directions: 145, 4101, 4857, 4858, 5122, 5313, 5315

Comments: military installation; public access denied & no alternative w/out compromising Nat'l security

Reasons: Secured Area

Building 1535-Credit Union W.

N. 138th Ave.

Glendale AZ 85309

Landholding Agency: Air Force

Property Number: 18201320001

Status: Excess

Comments: w/in secured area; public access denied & no alternative method to gain access w/out compromising Nat'l security

Reasons: Secured Area

2 Buildings

Davis Monthan AFB

Tucson AZ 85707

Landholding Agency: Air Force

Property Number: 18201320027

Status: Underutilized

Directions: 206, 207

Comments: Located on a gated entry controlled military base, public access denied & no alter. w/out compromising Nat'l sec.

Reasons: Secured Area

3 Building

Davis Monthan AFB

Tucson AZ 85707

Landholding Agency: Air Force

Property Number: 18201320060

Status: Underutilized

Directions: 5315,206,207

Comments: Public access denied & no alter. w/out compromising Nat'l sec.

Reasons: Secured Area

California

2 Buildings

401 & 405 14th St.

Edwards AFB CA 93524

Landholding Agency: Air Force

Property Number: 18201230002

Status: Unutilized

Directions: 7177, 7179

Comments: public access not allowed; no alternative method to allow public access w/out comprising Nat'l security

Reasons: Secured Area

4259

741 Circle

Edwards AFB CA 93524

Landholding Agency: Air Force

Property Number: 18201230003

Status: Unutilized

Comments: public access not allowed; no alternative method to allow public access w/out comprising Nat'l security

Reasons: Secured Area

3 Buildings

Edwards AFB

Edwards AFB CA 93524

Landholding Agency: Air Force

Property Number: 18201230032

Status: Unutilized

Directions: 1412, 4203, 7020

Comments: located w/in restricted area where public access denied & no alternative method to gain access w/out compromising Nat'l security

Reasons: Secured Area

26 Buildings

Eureka Hill Rd.

Point Arena Air CA

Landholding Agency: Air Force

Property Number: 18201240011

Status: Underutilized

Directions: 602, 603, 604, 605, 606, 607, 608, 609, 610, 611, 612, 613, 614, 615, 616, 617, 618, 619, 620, 621, 622, 623, 624, 625, 626, 627

Comments: secured area; public access denied & no alternative method to gain access w/out compromising Nat'l security

Reasons: Secured Area

21 Buildings

Eureka Hill Rd.

Point Arena Air CA

Landholding Agency: Air Force

Property Number: 18201240012

Status: Underutilized

Directions: 100, 102, 104, 105, 160, 201, 108, 202, 203, 206, 220, 221, 222, 225, 228, 217, 218, 408, 700, 300, 216

Comments: secured area; public access denied & no alternative method to gain access w/out compromising Nat'l security

Reasons: Secured Area

ACFT DY RSCH

Edwards AFB

Edwards CA

Landholding Agency: Air Force

Property Number: 18201240016

Status: Unutilized

Comments: secured area; public access denied & no alternative method to gain access w/out compromising Nat'l security

Reasons: Secured Area

ACFT RSCH ENG

Edwards AFB

Edwards CA

Landholding Agency: Air Force

Property Number: 18201240017

Status: Unutilized

Comments: secured area; public access denied & no alternative method to gain access w/out compromising Nat'l security

Reasons: Secured Area

Kennel Stray Animal

Edwards AFB

Edwards CA

Landholding Agency: Air Force

Property Number: 18201240018

Status: Excess

Comments: secured area; public access denied & no alternative method to gain access w/out compromising Nat'l security

Reasons: Secured Area

10 Buildings

Fresno Yosemite Intern `l

Fresno CA 93727

Landholding Agency: Air Force

Property Number: 18201240036

Status: Excess

Directions: 2202, 2203, 2204, 2206, 2207, 2208, 2217, 2219, 2221, 2223

Comments: restricted area; public access denied & no alternative method to gain access w/out compromising Nat'l security

Reasons: Secured Area

4 Buildings

Arnold/Grumman Ave.

Beale CA 95903

Landholding Agency: Air Force

Property Number: 18201310018

Status: Underutilized

Directions: 1057, 1058, 1226, 1152

Comments: w/in secured area; public access denied & no alternative method to gain access w/out compromising Nat'l security

Reasons: Secured Area

4 Buildings

Edwards AFB

Edwards AFB CA 93523

Landholding Agency: Air Force

Property Number: 18201310053

Status: Underutilized

Directions: B1412, B1400, B4900, B8834

Comments: secured area; public access denied & no alternative w/out compromising Nat'l security

Reasons: Secured Area

2 Buildings

MISC REC BLDG.

Edwards AFB CA 93523

Landholding Agency: Air Force

Property Number: 18201310054

Status: Unutilized

Directions: B5206, B16

Comments: secured area; public access denied & no alternative w/out compromising Nat'l security

Reasons: Secured Area

3 Buildings

Doolittle, Camp Beale & Grass Valley

Beale CA

Landholding Agency: Air Force

Property Number: 18201320003

Status: Unutilized

Directions: 1299, 3296 & 5775

Comments: located on base w/controlled access; public access denied & no alter. method w/out compromising Nat'l sec.

Reasons: Secured Area

West Wing Education Center

144 Wyoming Ave.

Vandenberg CA 93437

Landholding Agency: Air Force

Property Number: 18201320061

Status: Underutilized

Directions: 10 Buildings; 14001-14010

Comments: Public access denied & no alter. w/out compromising Nat'l sec.

Reasons: Secured Area

Building 124

Defense Distribution, San Joaquin

Sharpe Site

Lathrop CA 95231

Landholding Agency: Air Force

Property Number: 18201330052

Status: Unutilized

Comments: Public access denied & no alternative method to gain access w/out compromising Nat'l security

Reasons: Secured Area

Colorado

4 Buildings

Buckley AFB

Aurora CO 80011

Landholding Agency: Air Force

Property Number: 18201230017

Status: Underutilized

Directions: B1504, B1503, B1502, B1501

Comments: located w/in secured area where public access denied & no alternative method to gain access w/out compromising Nat'l security

Reasons: Secured Area

San Latrine Shower

1093 Ferl Rd.

USAF Academy CO 80840

Landholding Agency: Air Force

Property Number: 18201230033

Status: Underutilized

Comments: located w/in secured area; public access denied & no alternative method to gain access w/out compromising Nat'l security

Reasons: Secured Area

12 Buildings

Military Housing

USAF Academy CO

Landholding Agency: Air Force

Property Number: 18201310029

Status: Unutilized

Directions: 66073, 66080, 66100, 66074, 66081, 66101, 66070, 66071, 66082, 66102, 9328, 9329

Comments: w/in secured area; public access denied & no alternative method to gain access w/out compromising Nat'l security

Reasons: Secured Area

Building 1615

1390 S. Chucara Street

Aurora CO 80011

Landholding Agency: Air Force

Property Number: 18201320028

Status: Unutilized

Comments: Public access denied & no alter. method w/out compromising Nat'l sec.

Reasons: Secured Area

B/2001

Range 123W.-Prairie

Pueblo West CO 81007

Landholding Agency: Air Force

Property Number: 18201330035

Status: Underutilized

Comments: Public access denied & no alternative method to gain access w/out compromising Nat'l security.

Reasons: Secured Area

Connecticut

Three Building

Naval Submarine Base New London

Groton CT 06349

Landholding Agency: Navy

Property Number: 77201330036

Status: Excess

Directions: 152,427,436

Comments: Public access denied & no alternative method to gain access w/out compromising Nat'l security.

Reasons: Secured Area

Delaware

2 Buildings

Dover AFB

Dover DE 19902

Landholding Agency: Air Force

Property Number: 18201230018

Status: Underutilized

Directions: 3499,899

Comments: located w/in secured area where public access denied & no alternative method to gain access w/out compromising Nat'l security

Reasons: Secured Area

Building 2818

2600 Spruance Dr.

New Castle DE 19720

Landholding Agency: Air Force

Property Number: 18201310050

Status: Unutilized

Comments: secured area; public access denied & no alternative w/out compromising Nat'l security

Reasons: Secured Area

Florida

Facilities 28407 & 28411

1656 Lighthouse Rd.

Cape Canaveral FL 32925

Landholding Agency: Air Force

Property Number: 18201220009

Status: Excess

Comments: Nat'l security concerns; public access denied & no alternative method to gain access w/out comprising Nat'l security.

Reasons: Secured Area

2 Buildings

Hurlburt Field

Hurlburt Field FL 32544

Landholding Agency: Air Force

Property Number: 18201220010

Status: Underutilized

Directions: 90318 and 90319

Comments: Nat'l security concerns; public access denied & no alternative method to gain access w/out comprising Nat'l security.

Reasons: Secured Area

10 Buildings

Cape Canaveral

Cape Canaveral FL 32925

Landholding Agency: Air Force

Property Number: 18201220039

Status: Excess

Directions: 28411, 28415, 44500, 49928, 28401, 24445, 24404, 24403, 1715, 70540

Comments: Nat'l security concerns; public access denied & no alternative method to gain access w/out comprising Nat'l security

Reasons: Secured Area

3 Buildings

MacDill AFB

MacDill FL 33621

Landholding Agency: Air Force

Property Number: 18201230009

Status: Unutilized

Directions: 1205, 1149, 1135

Comments: located w/in secured area where public access denied & no alternative method to gain access w/out compromising Nat'l security

Reasons: Secured Area

10 Buildings

Samuel C. Phillips Pkwy

Cape Canaveral AFB FL 32925

Landholding Agency: Air Force

Property Number: 18201230014

Status: Excess

Directions: 84922, 84920, 67900, 60535, 60534, 1361, 40906, 56623, 36004, 17705

Comments: located w/in secured area where public access denied & no alternative method to gain access w/out compromising Nat'l security

Reasons: Secured Area

Facility 49800

15030 Samuel C. Phillips Pkwy

Cape Canaveral FL 32925

Landholding Agency: Air Force

Property Number: 18201230019

Status: Excess

Comments: located w/in secured area where public access denied & no alternative method to gain access w/out compromising Nat'l security

Reasons: Secured Area

Bldg. 1132

Transmitter Rd.

MacDill AFB FL 33621

Landholding Agency: Air Force

Property Number: 18201230021

Status: Unutilized

Comments: located w/in secured area where public access denied & no alternative method to gain access w/out compromising Nat'l security

Reasons: Secured Area

Bldg. 297

8005 Hillsborough Loop Dr.

MacDill FL 33621

Landholding Agency: Air Force

Property Number: 18201230049

Status: Underutilized

Comments: located w/in secured area; public access denied & no alternative method to gain access w/out compromising Nat'l security

Reasons: Secured Area

8 Buildings

Eglin AFB

Eglin FL 32542

Landholding Agency: Air Force

Property Number: 18201230057

Status: Underutilized

Directions: 223, 255, 411, 584, 1278, 1284, 1289, 4023

Comments: located in restricted controlled gov't installation; public access denied & no alternative method to gain access w/out compromising Nat'l security

Reasons: Secured Area

2 Buildings

Eglin AFB

Eglin FL 32542

Landholding Agency: Air Force

Property Number: 18201230058

Status: Unutilized

Directions: 586, 9267

Comments: located un restricted controlled gov't installation; public access denied & no alternative method to gain access w/out compromising Nat'l security

Reasons: Secured Area

7 Buildings

Eglin AFB

Eglin FL 32542

Landholding Agency: Air Force

Property Number: 18201240015

Status: Underutilized

Directions: 249, 250, 251, 256, 408, 888, 955

Comments: restricted area; public access denied & no alternative method to gain access w/out compromising Nat'l security

Reasons: Secured Area

4 Buildings

Fighter Wing, FL ANGB

Jacksonville FL 32218

Landholding Agency: Air Force

Property Number: 18201240028

Status: Underutilized

Directions: 1014, 1015, 1016, 1017

Comments: property located on a gated entry controlled military base; public access denied & no alternative to gain access w/out compromising Nat'l security.

Reasons: Secured Area

Facility 3013

107 Ford St.

Eglin AFB FL 32542

Landholding Agency: Air Force

Property Number: 18201240034

Status: Underutilized

Comments: located in a secured area; on the Duke Field cantonment area; public access denied & no alternative method to gain access w/out compromising Nat'l security

Reasons: Secured Area

3 Buildings

Tyndall AFB

Tyndall FL 32403

Landholding Agency: Air Force

Property Number: 18201310012

Status: Unutilized

Directions: B122, B123, 920

Comments: located w/in secured area; public access denied & no alternative method to gain access w/out compromising Nat'l security

Reasons: Secured Area

21 Buildings

Cape Canaveral AFS

Cape Canaveral AFS FL 32925

Landholding Agency: Air Force

Property Number: 18201310032

Status: Unutilized

Directions: 1627, 2826, 2842, 4120, 5414, 7006, 7850, 8602, 15832, 28403, 28404, 28408, 28409, 28414, 28420, 28422, 28423, 28425, 28502, 28504, 36001

Comments: secured area; public access denied & no alternative method to gain access w/out compromising Nat'l security

Reasons: Secured Area

5 Buildings

Kennedy Space Ctr. Communications

Kennedy Space Ctr. FL 32815

Landholding Agency: Air Force

Property Number: 18201310033

Status: Unutilized

Directions: 29115, 29120, 29139, 29142, 95401

Comments: secured area; public access denied & no alternative method without compromising Nat'l security

Reasons: Secured Area

Building 91400

Traffic Check House

Hurlburt Field FL 32544

Landholding Agency: Air Force

Property Number: 18201310052

Status: Underutilized

Comments: secured area; public access denied & no alternative w/out compromising Nat'l security

Reasons: Secured Area

12 Buildings

Florida Ave.

Tyndall AFB FL 32403

Landholding Agency: Air Force

Property Number: 18201310061

Status: Underutilized

Directions: 6030, 6022, 6021, 6020, 6016, 6014, 6025, 6023, 6028, 9706, 9704, 9719

Comments: secured area; public access denied & no alternative method w/out compromising Nat'l security

Reasons: Secured Area

6027 CE Shop/DRMO

302 Florida Ave.

Tyndall AFB FL 32403

Landholding Agency: Air Force

Property Number: 18201310062

Status: Excess

Comments: secured area; public access denied & no alternative method w/out compromising Nat'l security

Reasons: Secured Area

Building 90911

3 Hume Drive

Hurlburt Field FL 32544

Landholding Agency: Air Force

Property Number: 18201320032

Status: Unutilized

Comments: Public access denied & no alter. w/out compromising Nat'l sec.

Reasons: Secured Area

5 Building

MacDill AFB

MacDill AFB FL 33621

Landholding Agency: Air Force

Property Number: 18201320051

Status: Underutilized

Directions: 827, 826, 694, 550, 13

Comments: Not accessible to public; no alter. to gain access w/out compromising Nat'l sec.

Reasons: Secured Area

3 Building

MacDill AFB

MacDill AFB FL 33621

Landholding Agency: Air Force

Property Number: 18201320052

Status: Underutilized

Directions: 1107, 65, 60

Comments: Not accessible to public; no alter. to gain access w/out compromising Nat'l sec.

Reasons: Secured Area

Building 90716

415 Independence Rd.

Hurlburt Field FL 32544

Landholding Agency: Air Force

Property Number: 18201320063

Status: Underutilized

Comments: Public access denied & no alter. w/out compromising Nat'l sec.

Reasons: Secured Area

2 Buildings

MacDill AFB

MacDill AFB FL 33671

Landholding Agency: Air Force

Property Number: 18201320065

Status: Unutilized

Directions: 1153, 1271

Comments: Public access denied & no alter. w/out compromising Nat'l sec.

Reasons: Secured Area

2 Buildings

FTFA

Eglin AFB FL 32542

Landholding Agency: Air Force

Property Number: 18201330018

Status: Underutilized

Directions: 2664, 2694

Comments: Public access denied & no alternative to gain access w/out compromising Nat'l security.

Reasons: Secured Area

Building 56636

755 Lighthouse Rd.

Cape Canaveral AFS FL 32925

Landholding Agency: Air Force

Property Number: 18201330020

Status: Unutilized

Comments: Public access denied & no alternative method to gain access w/out compromising Nat'l security.

Reasons: Secured Area

Hawaii

7 Buildings

Wake Island

Wake Island HI 96898

Landholding Agency: Air Force

Property Number: 18201310038

Status: Unutilized

Directions: 01403, 01406, 01407, 01408, 01411, 01186

Comments: restricted area; public access denied & no alternative method to gain access w/out compromising Nat'l security

Reasons: Secured Area

16 Buildings

Wake Island

Wake Island HI 96898

Landholding Agency: Air Force

Property Number: 18201310055

Status: Unutilized

Directions: 00404, 00443, 00445, 00950, 01172, 01174, 01186, 01187, 01202, 01204, 01211, 01212, 01216, 01306, 1808

Comments: secured area; public access denied & no alternative method w/out compromising Nat'l security

Reasons: Secured Area

2 Buildings

Wake Island

Wake Island HI 96898

Landholding Agency: Air Force

Property Number: 18201330009

Status: Unutilized

Directions: 01406, 01403

Comments: Public access denied & no alternative to gain access w/out compromising Nat'l security.

Reasons: Secured Area

3 Buildings

Joint Base Pearl Harbor

JBPH HI

Landholding Agency: Air Force

Property Number: 18201330032

Status: Unutilized

Directions: 21418, 83220, 83214

Comments: Public access denied & no alternative method to gain access w/out compromising Nat'l security.

Reasons: Secured Area

Building 102

Wake Island Airfield

Wake Island HI 96898

Landholding Agency: Air Force

Property Number: 18201330047

Status: Unutilized

Comments: 100 present of the property located in floodway; not contained or corrected.

Reasons: Floodway

Joint Base Pearl Harbor Hickam

Installation N62813

325 Gardner Ave.

Pearl Harbor HI 96853

Landholding Agency: Air Force

Property Number: 18201330048

Status: Unutilized

Comments: Public access denied & no alternative method to gain access w/out compromising Nat'l security.

Reasons: Secured Area

Palehua Solar Observatory

Research Site

SW Oahu, HI

Makakilo HI 96707

Landholding Agency: GSA

Property Number: 54201330010

Status: Surplus

GSA Number: 9-D-HI-816

Directions: Disposal: GSA? Landholding: Air Force?

Comments: Inaccessible due to property can only be reaching by crossing private property and there is no established right or means of entry.

Reasons: Not accessible by road

Idaho

Fac. 291

Bomber Rd.

MHAFB ID 83648

Landholding Agency: Air Force

Property Number: 18201240013

Status: Unutilized

Comments: secured area; public access denied & no alternative method to gain access w/out compromising Nat'l security

Reasons: Secured Area

Illinois

3 Buildings

Scott AFB

Scott AFB IL 62225

Landholding Agency: Air Force

Property Number: 18201220034

Status: Unutilized

Directions: 1984, 1985, 530

Comments: High security active duty installation; Nat'l security concerns; public access denied & no alternative method to gain access w/out comprising Nat'l security

Reasons: Secured Area

B1508

107 Bucher St.

Scott AFB IL 62225

Landholding Agency: Air Force

Property Number: 18201230023

Status: Excess

Comments: authorized access only; restricted area; public access denied & no alternative method to gain access w/out compromising Nat'l security

Reasons: Secured Area

Building 509

611 South Drive

Scott AFB IL 62225

Landholding Agency: Air Force

Property Number: 18201310009

Status: Unutilized

Comments: located w/in secured area; public access denied & no alternative method to gain access w/out compromising Nat'l security

Reasons: Secured Area

2 Buildings

Scott AFB

Scott AFB IL 62225

Landholding Agency: Air Force

Property Number: 18201320029

Status: Unutilized

Directions: 3270, 4900

Comments: High security active duty installation; public access denied & no alter. method w/out compromising Nat'l sec.

Reasons: Secured Area

2 Buildings

Abraham Lincoln Capital Airport

Springfield IL 62707

Landholding Agency: Air Force

Property Number: 18201330031

Status: Excess

Directions: 124, 5

Comments: Public access denied & no alternative method to gain access w/out compromising Nat'l security.

Reasons: Secured Area

Indiana

Facilities 99 & 1371

Stor Igloos

Terre Haute IN 47803

Landholding Agency: Air Force

Property Number: 18201220019

Status: Unutilized

Comments: Nat'l security concerns; public access denied & no alternative method to gain access w/out comprising Nat'l security.

Reasons: Secured Area

Kansas

7 Buildings

McConnell AFB

McConnell KS 67210

Landholding Agency: Air Force

Property Number: 18201220033

Status: Underutilized

Directions: 408, 415, 424, 425, 696, 750, 1120

Comments: Nat'l security concerns; public access denied & no alternative method to gain access w/out comprising Nat'l security

Reasons: Secured Area

4 Buildings

McConnell AFB

McConnell KS 67210

Landholding Agency: Air Force

Property Number: 18201310005

Status: Underutilized

Directions: 683, 950, 1091, 1335

Comments: restricted military installation; public access denied & no alternative method to gain access w/out compromising Nat'l security

Reasons: Secured Area

9 Buildings

McConnell AFB

Wichita KS 67221

Landholding Agency: Air Force

Property Number: 18201330019

Status: Underutilized

Directions: 1102, 1106, 338, 978, 979, 516, 1122, P973, 984

Comments: Public access denied & no alternative method to gain access w/out compromising Nat'l security.

Reasons: Secured Area

Building 985

McConnell AFB

Wichita KS 67221

Landholding Agency: Air Force

Property Number: 18201330021

Status: Underutilized

Comments: Public access denied & no alternative method to gain access w/out compromising Nat'l security.

Reasons: Secured Area

Louisiana

3 Buildings

Barksdale AFB

Barksdale AFB LA 71110

Landholding Agency: Air Force

Property Number: 18201220032

Status: Unutilized

Directions: 5724, 7318, 7136

Comments: Nat'l security concerns; public access denied & no alternative method to gain access w/out comprising Nat'l security

Reasons: Secured Area

4 Buildings

Barksdale AFB

Barksdale LA 71110

Landholding Agency: Air Force

Property Number: 18201240004

Status: Unutilized

Directions: 4411,4414,4421,4868

Comments: w/in restricted area; public access denied & no alternative method to gain access w/out compromising Nat'l security

Reasons: Secured Area

B-4401

743 Kenny Ave.

Barksdale LA 71110

Landholding Agency: Air Force

Property Number: 18201240005

Status: Excess

Comments: restricted area; public access denied & no alternative method to gain access w/out compromising Nat'l security

Reasons: Secured Area

Building 4161

460 Billy Mitchell Ave.

Barksdale LA 71110

Landholding Agency: Air Force

Property Number: 18201240014

Status: Underutilized

Comments: secured area; public access denied & no alternative method to gain access w/out compromising Nat'l security

Reasons: Secured Area

2 Buildings

300 Miller Ave.

Boosier City LA 71112

Landholding Agency: Air Force

Property Number: 18201240035

Status: Unutilized

Directions: 6117, 6119

Comments: located w/in 1,500 ft. of a Federal facility handling 34,000 gallons of flammable materials; located within aircraft accident potential zone 1 (most dangerous); military airfield clear zone

Reasons: Within airport runway clear zone Within 2000 ft. of flammable or explosive material

7 Buildings

Kenny Ave.

Barksdale AFB LA 71110

Landholding Agency: Air Force

Property Number: 18201320005

Status: Underutilized

Directions: 4421, 4423, 4427, 4431, 4432, 4433, 4434

Comments: public access denied & no alter. w/out compromising Nat'l sec.

Reasons: Secured Area

4 Buildings

Kenny Ave.

Barksdale AFB LA 71110

Landholding Agency: Air Force

Property Number: 18201320006

Status: Underutilized

Directions: 4412, 4414, 4133, 4134

Comments: Public access denied & no alter. to access w/out compromising Nat'l sec.

Reasons: Secured Area

Building 4161

460 Billy Mitchell Ave.

Barksdale AFB LA 71110

Landholding Agency: Air Force

Property Number: 18201320034

Status: Underutilized

Comments: Public access denied & no alter. w/out compromising Nat'l sec.

Reasons: Secured Area

Building 4401

743 Kenny Ave.

Barksdale AFB LA 71110

Landholding Agency: Air Force

Property Number: 18201320035

Status: Excess

Comments: Public access denied & no alter. w/out compromising Nat'l sec.

Reasons: Secured Area

Building 4411

Kenny Ave.

Barksdale AFB LA 71110

Landholding Agency: Air Force

Property Number: 18201320036

Status: Unutilized

Comments: Public access denied & no alter. w/out compromising Nat'l sec.

Reasons: Secured Area

B-7244

4411 Kenny Ave.

Barksdale AFB LA 71110

Landholding Agency: Air Force

Property Number: 18201330025

Status: Underutilized

Comments: Public access denied & no alternative method to gain access w/out compromising Nat'l security.

Reasons: Secured Area

B-5485

Barksdale AFB

Barksdale LA 71110

Landholding Agency: Air Force

Property Number: 18201330040

Status: Unutilized

Comments: Public access denied & no alternative method to gain access w/out compromising Nat'l security.

Reasons: Secured Area

Maine

Building 421

Bangor International Airport

Bangor ME 04401

Landholding Agency: Air Force

Property Number: 18201320057

Status: Excess

Comments: Public access & no alters. w/out compromising Nat'l sec.

Reasons: Secured Area

Building 495

104 Glenn Ave.

Bangor ME 04401

Landholding Agency: Air Force

Property Number: 18201320059

Status: Excess

Comments: Public access denied & no alters. w/out compromising Nat'l sec.

Reasons: Secured Area

Maryland

2 Buildings

Martin State Airport

Baltimore MD 21220

Landholding Agency: Air Force

Property Number: 18201220022

Status: Excess

Directions: 1120 & 1121

Comments: Nat'l security concerns; public access denied & no alternative method to gain access w/out comprising Nat'l security.

Reasons: Secured Area

10 Buildings

Joint Base Andrews

JBA MD 20762

Landholding Agency: Air Force

Property Number: 18201330023

Status: Unutilized

Directions: 1049, 1050, 1052, 1053, 1057, 1061, 1063, 1075, 1601, 1603

Comments: Public access denied & no alternative method to gain access w/out compromising Nat'l security.

Reasons: Secured Area

Massachusetts

137 Pump House

Reilly House

OTIS ANGB MA

Landholding Agency: Air Force

Property Number: 18201230048

Status: Excess

Comments: located w/in secured area; public access denied & no alternative method to gain access w/out compromising Nat'l security

Reasons: Secured Area

3 Buildings

175 Falcon Dr.

Westfield MA 01085

Landholding Agency: Air Force

Property Number: 18201240026

Status: Excess

Directions: 16, 35, 28

Comments: located on secured area; public access denied & no alternative methods to gain access w/out compromising Nat'l security

Reasons: Secured Area

2 Building

50 Maple Street

Milford MA 01757

Landholding Agency: Air Force

Property Number: 18201320056

Status: Excess

Directions: 100 & 101

Comments: Public access denied & no alter. w/out compromising Nat'l sec.

Reasons: Secured Area

Mississippi

4 Buildings

Kessler AFB

Kessler AFB MS 39534

Landholding Agency: Air Force

Property Number: 18201220037

Status: Underutilized

Directions: 4813, 4815, 4906, 4910

Comments: Nat'l security concerns; public access denied & no alternative method to gain access w/out comprising Nat'l security

Reasons: Secured Area

Bldg. 21005

6225 M St.

Meridian MS 39307

Landholding Agency: Air Force

Property Number: 18201230046

Status: Unutilized

Comments: Access limited to military personnel only; public access denied & no alternative method to gain access w/out compromising Nat'l security

Reasons: Secured Area

Building 630

713 Lockhart

Columbus MS 39710

Landholding Agency: Air Force

Property Number: 18201230060

Status: Underutilized

Comments: public access denied & no alternative method to gain access w/out compromising Nat'l security

Reasons: Secured Area

Building 115

null

CRTC Gulfport

Gulfport MS 39507

Landholding Agency: Air Force

Property Number: 18201330042

Status: Excess

Comments: Public access denied & no alternative method to gain access w/out compromising Nat'l security.

Reasons: Secured Area

Missouri

Building 115

10800 Lambert Int'l Blvd.

St. Louis MO 63044

Landholding Agency: Air Force

Property Number: 18201310004

Status: Unutilized

Comments: restricted military installation; public access denied & no alternative method to gain access w/out compromising Nat'l security

Reasons: Secured Area

Nebraska

Building 113

null

Offutt AFB NE 68113

Landholding Agency: Air Force

Property Number: 18201320039

Status: Excess

Comments: Public access denied and no alter. Without compromising Nat'l sec.

Reasons: Secured Area

5 Building

Offutt AFB

Omaha NE 68113

Landholding Agency: Air Force

Property Number: 18201320041

Status: Excess

Directions: 135,139,308,328,404

Comments: Public access denied—no alter. without compromising Nat'l sec.

Reasons: Secured Area

Building 670

1111 West Oak Ave.

Lincoln NE 68524

Landholding Agency: Air Force

Property Number: 18201320084

Status: Unutilized

Comments: 100% of property located in floodway; floodway has not been correct or contained

Reasons: Floodway

New Hampshire

PEASE ANGB

302 Newmarket St.

Newington NH 03803

Landholding Agency: Air Force

Property Number: 18201230043

Status: Unutilized

Comments: public access denied & no alternative method to gain access w/out compromising Nat'l security

Reasons: Secured Area

New Jersey

3 Buildings

Joint Base McGuire Dix Lakehurst

Ft. Dix NJ 08640

Landholding Agency: Air Force

Property Number: 18201230008

Status: Unutilized

Directions: 9725, 9055, 9404

Comments: located w/in secured area where public access denied & no alternative method to gain access w/out compromising Nat'l security

Reasons: Secured Area

Facility 9418

Joint Base McGuire Dix Lakehurst

Ft. Dix NJ 08640

Landholding Agency: Air Force

Property Number: 18201230013

Status: Unutilized

Comments: located w/in secured area where public access denied & no alternative method to gain access w/out compromising Nat'l security

Reasons: Secured Area

4 Buildings

Joint Base McGuire-Dix-Lakehurst

Ft. Dix NJ 08640

Landholding Agency: Air Force

Property Number: 18201230051

Status: Unutilized

Directions: 9723,9728,9411,9403

Comments: located w/in secured area where public access denied & no alternative method to gain access w/out compromising Nat'l security

Reasons: Secured Area

Bldg. 9415

9410 Old Shore Rd.

Ft. Dix NJ 08640

Landholding Agency: Air Force

Property Number: 18201230053

Status: Unutilized

Comments: located w/in restricted area where public access denied & no alternative method to gain access w/out compromising Nat'l security

Reasons: Secured Area

Traffic Check House

3573 Lancaster Rd.

Trenton NJ 08641

Landholding Agency: Air Force

Property Number: 18201230054

Status: Unutilized

Comments: located w/in secured post; public access denied & no alternative method to gain access w/out compromising Nat'l security

Reasons: Secured Area

Building 7434

Madison Rd.

JBMDL NJ 08640

Landholding Agency: Air Force

Property Number: 18201320004

Status: Unutilized

Comments: public access denied & no alternative method to gain access w/out compromising Nat'l security

Reasons: Secured Area

Bldg. 118 (Hanger 4)

118 Keller Road

JBMDL NJ 08733

Landholding Agency: Air Force

Property Number: 18201320022

Status: Excess

Comments: Public access denied & no alter. w/out compromising Nat'l sec.

Reasons: Secured Area

2 Buildings

Joint Base McGuire-Dix Lakehurst

JBMDL NJ 08640

Landholding Agency: Air Force

Property Number: 18201330026

Status: Unutilized

Directions: 9162, 9895

Comments: Public access denied & no alternative method to gain access w/out compromising Nat'l security.

Reasons: Secured Area

Building 3351

JBMDL

JBMDL NJ 08641

Landholding Agency: Air Force

Property Number: 18201330043

Status: Unutilized

Comments: DOD personnel only; public access denied & no alternative to gain access w/out compromising Nat'l security.

Reasons: Secured Area

New Mexico

3 Buildings

Kirtland AFB

Kirtland AFB NM 87117

Landholding Agency: Air Force

Property Number: 18201220011

Status: Underutilized

Directions: 253, 255, 638

Comments: Nat'l security concerns; public access denied & no alternative method to gain access w/out comprising Nat'l security.

Reasons: Secured Area

Bldg. 30116

5801 Manzano St SE

Kirtland AFB NM 87117

Landholding Agency: Air Force

Property Number: 18201220012

Status: Underutilized

Comments: Nat'l security concerns; public access denied & no alternative method to gain access w/out comprising Nat'l security.

Reasons: Secured Area

6 Buildings

Kirtland AFB

Kirtland AFB NM 87117

Landholding Agency: Air Force

Property Number: 18201220013

Status: Unutilized

Directions: 37514, 37511, 37509, 37503, 30144, 30108

Comments: Nat'l security concerns; public access denied & no alternative method to gain access w/out comprising Nat'l security.

Reasons: Secured Area

Bldgs. 573, 855, 859

Holloman AFB

Holloman AFB NM 88330

Landholding Agency: Air Force

Property Number: 18201220023

Status: Unutilized

Comments: Nat'l security concerns; public access denied & no alternative method to gain access w/out comprising Nat'l security

Reasons: Secured Area

5 Buildings

Holloman AFB

Holloman AFB NM 88330

Landholding Agency: Air Force

Property Number: 18201220030

Status: Unutilized

Directions: 19, 838, 1197, 847, 1198

Comments: Nat'l security concerns; public access denied due to anti-terrorism & no alternative method to gain access w/out comprising Nat'l security

Reasons: Secured Area

Buildings 782, 793, 1102, 803

Holloman AFB

Holloman NM 88330

Landholding Agency: Air Force

Property Number: 18201240008

Status: Unutilized

Comments: Active military installation; public access denied & no alternative method to gain access w/out compromising Nat'l security

Reasons: Secured Area

5 Buildings

Cannon AFB

Cannon NM 88103

Landholding Agency: Air Force

Property Number: 18201240031

Status: Unutilized

Directions: 381, 799, 2112, 2332, 258

Comments: located on AF controlled installation; restricted to authorized personnel only; public access denied & no alternative method to gain access w/out compromising Nat'l security

Reasons: Secured Area

Building 442

401 N. Chindit Blvd.

Cannon AFB NM 88103

Landholding Agency: Air Force

Property Number: 18201320002

Status: Unutilized

Comments: AF controlled installation; public access denied & no alternative method to gain access w/out compromising Nat'l security

Reasons: Secured Area

4 Buildings

Kirtland AFB

Kirtland AFB NM 87117

Landholding Agency: Air Force

Property Number: 18201320037

Status: Unutilized

Directions: 734, 1912, 37529, 37530

Comments: Within a military controlled under heightened sec. alter area, public access denied—no alter without compromising Nat'l sec.

Reasons: Secured Area

7 Building

Kirkland AFB

Kirkland AFB NM 87117

Landholding Agency: Air Force

Property Number: 18201320038

Status: Underutilized

Directions: 640, 639, 426, 1035, 1103, 954, 1103

Comments: w/in a military-controlled under heightened sec. alert area, public access denied & no alter. w/out compromising Nat'l sec.

Reasons: Secured Area

Building 848

Holloman AFB

Holloman NM 88330

Landholding Agency: Air Force

Property Number: 18201330007

Status: Unutilized

Comments: Public access denied due to anti-terrorism/force protection; no alternative method to gain access.

Reasons: Secured Area

North Dakota

28 Building

JFSD Grand Forks AFB

Grand Folks ND 58205

Landholding Agency: Air Force

Property Number: 18201320043

Status: Unutilized

Directions: 702, 727, 728, 729, 730, 731, 733, 726, 725, 724, 723, 722, 720, 719, 718, 717, 715, 714, 713, 712, 711, 709, 708, 707, 706, 705, 703, 704

Comments: Not accessible to public & no alter. w/out compromising Nat'l sec.

Reasons: Secured Area

Ohio

Facility 20167

2310 Eighth St.

WPAFB OH 43433

Landholding Agency: Air Force

Property Number: 18201230031

Status: Unutilized

Comments: located w/in controlled fenced perimeter of military installation; public access denied & no alternative method to gain access w/out compromising Nat'l security

Reasons: Secured Area

10 Buildings

WPAFB

WPAFB OH 45433

Landholding Agency: Air Force

Property Number: 18201310013

Status: Unutilized

Directions: 10297, 20062, 20096, 20130, 30153, 30882, 30902, 31190, 30230, 31234

Comments: w/in secured installation; public access denied & no alternative method to gain access w/out compromising Nat'l security

Reasons: Secured Area

3 Building

Wright-Patterson AFB

WPAFB OH 45433

Landholding Agency: Air Force

Property Number: 18201320058

Status: Unutilized

Directions: 00841, 34020, 34065

Comments: w/insured gov't installation; public access denied & no alter. w/out compromising Nat'l sec.

Reasons: Secured Area

3 Buildings

121st ARW/ANG

Columbus OH

Landholding Agency: Air Force

Property Number: 18201330030

Status: Underutilized

Directions: 2004,873,670

Comments: Public access denied & no alternative method to gain access w/out compromising Nat'l security.

Reasons: Secured Area

848 Pav Grnd Facility

Rickenbacker (NLZG)

Columbus OH 43217

Landholding Agency: Air Force

Property Number: 18201330044

Status: Underutilized

Comments: Public access denied & no alternative method to gain access w/out compromising Nat'l security.

Reasons: Secured Area

Oklahoma

Facility 47

Altus AFB

AGGN OK 73523

Landholding Agency: Air Force

Property Number: 18201230030

Status: Excess

Comments: public access denied due to anti-terrorism/force protection & no alternative method to gain access w/out compromising Nat'l security

Reasons: Secured Area

Facility 47

501 North First St.

Altus OK 73523

Landholding Agency: Air Force

Property Number: 18201240022

Status: Excess

Comments: public access denied & no alternative method to gain access w/out compromising Nat'l security

Reasons: Secured Area

4 Buildings

Altus AFB

Altus OK 73523

Landholding Agency: Air Force

Property Number: 18201240023

Status: Unutilized

Directions: 165,65,72,48

Comments: secured area; public access denied & no alternative method to gain access w/out compromising Nat'l security

Reasons: Secured Area

2 Buildings

Altus AFB

Altus OK 73523

Landholding Agency: Air Force

Property Number: 18201310051

Status: Unutilized

Directions: 267, 335

Comments: secured area; public access denied & no alternative w/out compromising Nat'l security

Reasons: Secured Area

3 Buildings

Altus AFB

Altus OK 73521

Landholding Agency: Air Force

Property Number: 18201330036

Status: Unutilized

Directions: 154,171,170

Comments: Public access denied due to anti-terrorism/force protection & no alternative method to gain access w/out compromising Nat'l security.

Reasons: Secured Area

Oregon

Building 1004

6801 NE Cornfoot Rd.

Portland OR 97218

Landholding Agency: Air Force

Property Number: 18201240025

Status: Unutilized

Comments: located on secured area; public access denied & no alternative method to gain access w/out compromising Nat'l security

Reasons: Secured Area

Building 188

6801 NE Cornfoot Road

Portland OR 97218

Landholding Agency: Air Force

Property Number: 18201320064

Status: Unutilized

Comments: Public access denied & no alter. method w/out compromising Nat'l sec.

Reasons: Secured Area

Building 370

Portland IAP TQKD (ANG)

Portland OR 97218

Landholding Agency: Air Force

Property Number: 18201330045

Status: Unutilized

Comments: Public access denied & no alternative to gain access w/out compromising Nat'l security.

Reasons: Secured Area

Pennsylvania

Pa Ang Bldg. 1-66

Ft. Indiantown Gap AGS, LKLW

Annville PA 17003

Landholding Agency: Air Force

Property Number: 18201330051

Status: Excess

Comments: Public access denied & no alternative method to gain access w/out compromising Nat'l security.

Reasons: Secured Area

South Carolina

Bldg. 211

110 Graves Ave.

Joint Base Charleston SC 29404

Landholding Agency: Air Force

Property Number: 18201230055

Status: Unutilized

Comments: located in restricted area; public access denied & no alternative method to gain access w/out compromising Nat'l security

Reasons: Secured Area

Building 433

JBCWS

Goose Creek SC 29445

Landholding Agency: Air Force

Property Number: 18201310007

Status: Underutilized

Comments: located w/in secured area; public access denied & no alternative method to gain access w/out compromising Nat'l security

Reasons: Secured Area

South Dakota

Building 80

LUXC Joe Foss Field

Sioux Falls SD 57104

Landholding Agency: Air Force

Property Number: 18201330039

Status: Excess

Comments: Public access denied & no alternative method to gain access w/out compromising Nat'l security.

Reasons: Secured Area

Tennessee

ACFT DY RSCH TEST

675 Second St.

Arnold AFB TN 37389

Landholding Agency: Air Force

Property Number: 18201230039

Status: Underutilized

Comments: located in secured restricted area; public access denied & no alternative method to gain access w/out compromising Nat'l security

Reasons: Secured Area

4 Buildings

2219 Sixth St.

Arnold AFB TN 37389

Landholding Agency: Air Force

Property Number: 18201230040

Status: Underutilized

Directions: 2220, 2221, 2222, 2223

Comments: located in secured restricted area; public access denied & no alternative method to gain access w/out compromising Nat'l security

Reasons: Secured Area

Bldg. 708

Nashville IAP

Nashville TN 37217

Landholding Agency: Air Force

Property Number: 18201230059

Status: Underutilized

Comments: authorized military personnel only; restricted area; public access denied & no alternative method to gain access w/out compromising Nat'l security

Reasons: Secured Area

Building 712

240 Knapp Blvd.

Nashville TN 37217

Landholding Agency: Air Force

Property Number: 18201240024

Status: Excess

Comments: located on secured area; public access denied & no alternative method to gain access w/out compromising Nat'l security

Reasons: Secured Area

Building 750

South Fourth St.

Arnold AFB TN 37389

Landholding Agency: Air Force

Property Number: 18201240037

Status: Excess

Comments: located on secured area where public access denied & no alternative method to gain access w/out compromising Nat'l security

Reasons: Secured Area

Facilities 1470 & 1485

Arnold AFB

Arnold AFB TN 37389

Landholding Agency: Air Force

Property Number: 18201310063

Status: Excess

Comments: secured area; public access denied & no alternative method w/out compromising Nat'l security

Reasons: Secured Area

Building 131

320 Post Ave. McGhee Tyson

Louisville TN 37777

Landholding Agency: Air Force

Property Number: 18201320045

Status: Unutilized

Comments: Secured military installation; public access denied & no alter. method w/out compromising Nat'l sec.

Reasons: Secured Area

Building 13

320 Post Ave. McGhee Tyson

Louisville TN 37777

Landholding Agency: Air Force

Property Number: 18201320046

Status: Excess

Comments: Secured military installation, public access denied & no alter. w/out compromising Nat'l sec.

Reasons: Secured Area

Texas

11 Buildings

Ft. Sam Houston

San Antonio TX 78234

Landholding Agency: Air Force

Property Number: 18201220014

Status: Unutilized

Directions: 1149, 1151, 1152, 1153, 1154, 1158, 1159, 1160, 1161, 1162, 1163

Comments: Nat'l security concerns; public access denied & no alternative method to gain access w/out comprising Nat'l security.

Reasons: Secured Area

12 Buildings

Ft. Sam Houston

San Antonio TX 78234

Landholding Agency: Air Force

Property Number: 18201220015

Status: Unutilized

Directions: 2410, 2411, 2412, 2425, 2427, 2429, 2430, 2432, 3551, 3552, 3553, 3557

Comments: Nat'l security concerns; public access denied & no alternative method to gain access w/out comprising Nat'l security.

Reasons: Secured Area

Bldg. 435

Good fellow AFB

Good fellow AFB TX 76908

Landholding Agency: Air Force

Property Number: 18201220016

Status: Excess

Comments: Nat'l security concerns; public access denied & no alternative method to gain access w/out comprising Nat'l security.

Reasons: Secured Area

4 Buildings

Storage Munitions Cubicle

Lackland AFB TX

Landholding Agency: Air Force

Property Number: 18201220028

Status: Unutilized

Directions: 402, 403, 404, 585

Comments: Nat'l security concerns; public access denied & no alternative method to gain access w/out comprising Nat'l security

Reasons: Secured Area

Bldg. 1092

Sheppard AFB

Sheppard AFB TX 76311

Landholding Agency: Air Force

Property Number: 18201220029

Status: Unutilized

Comments: Nat'l security concerns; public access denied & no alternative method to gain access w/out comprising Nat'l security

Reasons: Secured Area

15 Buildings

Laughlin AFB

Del Rio TX 78843

Landholding Agency: Air Force

Property Number: 18201220040

Status: Unutilized

Directions: 47, 64, 113, 125, 136, 257, 284, 358, 360, 401, 510, 511, 2024, 8081, 9007

Comments: Nat'l security concerns; public access denied & no alternative method to gain access w/out comprising Nat'l security

Reasons: Secured Area

6 Buildings

BE Stor Shed

Randolph AFB TX

Landholding Agency: Air Force

Property Number: 18201220043

Status: Underutilized

Directions: B1281, B1282, B1284, B1285, B1286, B1287

Comments: Nat'l security concerns; public access denied & no alternative method to gain access w/out comprising Nat'l security

Reasons: Secured Area

5 Buildings

Good fellow AFB

Good fellow TX 76908

Landholding Agency: Air Force

Property Number: 18201230027

Status: Excess

Directions: 104, 508, 538, 707, 3070

Comments: anti-terrorism & force protection; located w/in restricted area where public access denied & no alternative method to gain access w/out compromising Nat'l security

Reasons: Secured Area

B-6283

4810 Camp Bullis

Camp Bullis TX 78257

Landholding Agency: Air Force

Property Number: 18201230028

Status: Unutilized

Comments: located w/in secured area; public access denied & no alternative method to gain access w/out compromising Nat'l security

Reasons: Secured Area

7 Buildings

4810 Camp Bullis

Camp Bullis TX 78257

Landholding Agency: Air Force

Property Number: 18201230029

Status: Unutilized

Directions: B5288, 5289, 5290, 5291,5292,5293,5294

Comments: located w/in secured area where public access denied & no alternative method to gain access w/out compromising Nat'l security

Reasons: Secured Area

2.747 Acres

Joint Base San Antonio

Ft. Sam Houston TX

Landholding Agency: Air Force

Property Number: 18201310031

Status: Unutilized

Comments: w/in secured area; public access denied & no alternative method to gain access w/out compromising Nat'l security

Reasons: Secured Area

Building 330

291 Flightline

Good fellow AFB TX 76908

Landholding Agency: Air Force

Property Number: 18201310056

Status: Excess

Comments: secured area; public access denied & no alternative method w/out compromising Nat'l security

Reasons: Secured Area

Shop A/M Org. B00054

251 Fourth Ave.

Del Rio TX 78843

Landholding Agency: Air Force

Property Number: 18201310058

Status: Unutilized

Comments: located on military installation; public access denied & no alternative method w/out compromising Nat'l security

Reasons: Secured Area

13 Buildings

Sheppard AFB

Sheppard AFB TX 76311

Landholding Agency: Air Force

Property Number: 18201310059

Status: Underutilized

Directions: 527, 528, 596, 690, 691, 692, 693, 776, 790, 791, 792, 793, 794

Comments: secured area; public access denied & no alternative method w/out compromising Nat'l security

Reasons: Secured Area

Building 530

519 I Ave.

Sheppard AFB TX 76311

Landholding Agency: Air Force

Property Number: 18201320044

Status: Underutilized

Comments: Public access denied & no alter. w/out compromising Nat'l sec.

Reasons: Secured Area

Building 1155

Lackland AFB

San Antonio TX 78101

Landholding Agency: Air Force

Property Number: 18201330037

Status: Underutilized

Comments: Public access denied & no alternative method to gain access w/out compromising Nat'l security

Reasons: Secured Area

Virginia

Bldg. 1994

Eagle Ave

Hampton VA 23665

Landholding Agency: Air Force

Property Number: 18201220024

Status: Underutilized

Comments: Nat'l security concerns; public access denied & no alternative method to gain access w/out comprising Nat'l security

Reasons: Secured Area

9 Buildings

Langley AFB

Langley AFB VA 23665

Landholding Agency: Air Force

Property Number: 18201220027

Status: Underutilized

Directions: 1092, 1093, 1094, 1095, 1096, 1097, 1098, 750, 51

Comments: Nat'l security concerns; public access denied & no alternative method to gain access w/out comprising Nat'l security

Reasons: Secured Area

Building 37

48 Dogwood Avenue

Hampton VA 23665

Landholding Agency: Air Force

Property Number: 18201330024

Status: Underutilized

Comments: Active military installation; public access denied & no alternative method to gain access w/out compromising Nat'l security

Reasons: Secured Area

Building 297

Sweeney Blvd.

Hampton VA 23665

Landholding Agency: Air Force

Property Number: 18201330027

Status: Excess

Comments: Public access denied & no alternative method to gain access w/out compromising Nat'l security

Reasons: Secured Area

Washington

4 Buildings

South Taxiway Rd.

Fairchild AFB WA 99011

Landholding Agency: Air Force

Property Number: 18201230010

Status: Underutilized

Directions: 1024,1023,1026,1021

Comments: Located within the boundary of an active AF installation where public access denied & no alternative method to gain access w/out compromising Nat'l security

Reasons: Secured Area

Hanger 1025

200 S. Taxiway I Rd.

Fairchild AFB WA 99011

Landholding Agency: Air Force

Property Number: 18201230024

Status: Underutilized

Comments: Located w/in controlled active installation; public access denied & no alternative method w/out compromising Nat'l security

Reasons: Secured Area

14 Buildings

Fairchild AFB

Fairchild WA 99011

Landholding Agency: Air Force

Property Number: 18201330014

Status: Unutilized

Directions: 1422, 1421, 1408, 1425, 1424, 1423, 1426, 1427, 1434, 1438, 1439, 1440, 1441, 1442

Comments: Active munitions area; public access denied & no alternative method to gain access w/out compromising Nat'l security

Reasons: Secured Area

4 Buildings

Fairchild AFB

Fairchild WA 99011

Landholding Agency: Air Force

Property Number: 18201330016

Status: Unutilized

Directions: 1444, 1449, 1450, K153

Comments: Active munitions area; public access denied & no alternative method to gain access w/out compromising Nat'l security

Reasons: Secured Area

6 Building

Fairchild AFB

Fairchild WA 99011

Landholding Agency: Air Force

Property Number: 18201330022

Status: Unutilized

Directions: 1478, 1479, 1480, 1482, 1483, 1484

Comments: Active munitions area; public access denied & no alternative method to gain access w/out compromising Nat'l security

Reasons: Secured Area

Wyoming

Bldg. 945

7505 Booker Rd.

Cheyenne WY

Landholding Agency: Air Force

Property Number: 18201230062

Status: Unutilized

Comments: Located in a secured area; public access denied & no alternative method to gain access w/out compromising Nat'l security

Reasons: Secured Area

3 Buildings

FE Warren AF

Cheyenne WY 82005

Landholding Agency: Air Force

Property Number: 18201240020

Status: Unutilized

Directions: 1166, 2277, 835

Comments: Restricted area; public access denied & no alternative method to gain access w/out compromising Nat'l security

Reasons: Secured Area

Land

California

40′ X 60′ Parcel of Land

Naval Support Activity

Monterey CA 93940

Landholding Agency: Navy

Property Number: 77201330034

Status: Underutilized

Comments: Secured area; public access denied & no alternative method to gain access w/out compromising Nat'l security

Reasons: Secured Area

Florida

8 Buildings

null

Tyndall AFB FL 32403

Landholding Agency: Air Force

Property Number: 18201310011

Status: Underutilized

Directions: 205, 207, 214, 748, 1277, 1279, 1280, 1476

Comments: Restricted military installation; public access denied & no alternative method to gain access w/out compromising Nat'l security

Reasons: Secured Area

New Jersey

7.0 Acres land for training

Rounds & Lansdowne Roads

JBMDL NJ 08733

Landholding Agency: Air Force

Property Number: 18201320023

Status: Excess

Comments: Public access denied & no alter. w/out compromising Nat'l sec.

Reasons: Secured Area

[FR Doc. 2013-23925 Filed 10-3-13; 8:45 am]

BILLING CODE 4210-67-P